OFFICE OF SPECIAL COUNSEL

Service Contract Inventory for Fiscal Year (FY) 2011

AGENCY: Office of Special Counsel.

ACTION: Notice of availability—FY 2011 Service Contract Inventory.

SUMMARY: Through this notice, the Special Counsel announces the availability of the Office of Special Counsel's service contract inventory on its Web site, at http://www.osc.gov/RR_OSCReportsAndInformation.htm. A service contract inventory is a tool for assisting an agency in better understanding how contracted services are being used to support mission and operations and whether the contractors' skills are being utilized in an appropriate manner.

FOR FURTHER INFORMATION CONTACT: Karl Kammann, Director of Finance, at kkammann@osc.gov; 1730 M Street NW., Suite 218, Washington, DC 20036-4505, or by facsimile at (202) 254-3711.

SUPPLEMENTARY INFORMATION: Section 743 of Division C of the Consolidated Appropriations Act of 2010, Public Law 111-117, requires civilian agencies, other than the Department of Defense, that are required to submit an inventory in accordance with the Federal Activities Inventory Reform Act of 1998 (Pub. L. 105-270, 31 U.S.C. 501 note) to submit their inventories to the Office of Federal Procurement Policy (OFPP) in the Office of Management and Budget (OMB) by December 30, 2011. In addition, section 743 requires these agencies, which include the U.S. Office of Special Counsel, to (1) make the inventory available to the public by posting the inventory on its agency homepage, (2) provide OFPP with the Web site address (URL) on which the inventory is being posted so that the inventory can be linked to a central OMB Web page, and (3) publish in the Federal Register a notice announcing that the inventory is available to the public along with the name, telephone number, and email address of an agency point of contact. Through this notice, the Office of Special Counsel announces the availability of its inventory on the following Web site: http://www.osc.gov/RR_OSCReportsAndInformation.htm. The point of contact for the inventory is provided under the FOR FURTHER INFORMATION CONTACT section in this notice.

Dated: April 12, 2012.
Carolyn N. Lerner,
Special Counsel.

[FR Doc. 2012-9262 Filed 4-17-12; 8:45 am]

BILLING CODE 7405-01-P